DEPARTMENT OF JUSTICE

Notice of Lodging of Proposed Consent Decree Under the Comprehensive Environmental Response, Compensation and Liability Act (“CERCLA”)

On January 23, 2015 the Department of Justice lodged a proposed Consent Decree with the United States District Court for the Eastern District of Washington in the lawsuit entitled United States v. Spokane County, Washington, Civil Action No. 15-00018.

The proposed Consent Decree resolves the claims alleged in the Complaint, filed concurrently with the lodging of the Decree, against Spokane County under Sections 107(a) and 106 of CERCLA, seeking the recovery of the United States' response costs and performance of a removal action for the Vermiculite Northwest—Spokane County Superfund Site (“Site”). The County is the owner of the Site, which was formerly owned and operated as a vermiculite ore processing facility. The County installed a cap over asbestos-contaminated soils at the Site, and subsequently, EPA selected a removal action that requires the County to implement institutional controls that provide for, inter alia, maintenance of the cap and restrictions on soil disturbing activities that might cause a release of asbestos. The proposed Consent Decree requires the County to perform the removal action by recording and complying with an Environmental Covenant attached to the Decree and reimburse the United States' past costs of $101,796.50, as well as future response costs.

The publication of this notice opens a period for public comment on the proposed Consent Decree. Comments should be addressed to the Assistant Attorney General, Environment and Natural Resources Division, and should refer to United States v. Spokane County, Washington, D.J. Ref. No. 90-11-3-10899. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $15.25 (25 cents per page reproduction cost) payable to the United States Treasury.

Susan M. Akers,
Assistant Section Chief, Environmental Enforcement Section, Environment and Natural Resources Division.

[FR Doc. 2015-01697 Filed 1-29-15; 8:45 am]

BILLING CODE 4410-15-P